DEPARTMENT OF THE TREASURY

Internal Revenue Service

26 CFR Part 1

[TD 9377]

RIN 1545-BF02

Application of Section 338 to Insurance Companies; Correction

AGENCY: Internal Revenue Service (IRS), Treasury.

ACTION: Correcting amendment.

SUMMARY: This document contains a correction to final regulations (TD 9377) that were published in the Federal Register on Wednesday, January 23, 2008 (73 FR 3868), that apply to a section 197 intangible resulting from an assumption reinsurance transaction, and under section 338 that apply to reserve increases after a deemed asset sale.

DATES: This correction is effective on March 18, 2008.

FOR FURTHER INFORMATION CONTACT: William T. Sullivan (202) 622-7052 (not toll-free number).

SUPPLEMENTARY INFORMATION:

Background

The final regulations (TD 9377) that is the subject of this correction is under section 197 of the Internal Revenue Code.

Need for Correction

As published, TD 9377 contains an error that may prove to be misleading and is in need of clarification.

List of Subjects 26 CFR Part 1

Income taxes, Reporting and recordkeeping requirements.

Correction of Publication

Accordingly, 26 CFR part 1 is corrected by making the following correcting amendment:

PART 1—INCOME TAXES

Paragraph 1. The authority citation for part 1 continues to read as follows:

Authority: 26 U.S.C. 7805. * * *

§ 1.1060-1 [Corrected]

Par. 2. Section 1.1060-1(a)(2)(iii) introductory text, last sentence is amended by removing the language “§§ 1.338-11 and 1.338-11T(d)” and adding the language “§ 1.338-11” in its place.

Cynthia Grigsby,
Senior Federal Register Liaison Officer, Publications and Regulations Branch, Legal Processing Division, Office of Associate Chief Counsel, (Procedure and Administration).

[FR Doc. E8-5333 Filed 3-17-08; 8:45 am]

BILLING CODE 4830-01-P